DEPARTMENT OF COMMERCE

National Oceanic and Atmospheric Administration

50 CFR Part 660

[Docket No. 201204-0325]

RIN 0648-BJ74

Magnuson-Stevens Act Provisions; Fisheries Off West Coast States; Pacific Coast Groundfish Fishery; Pacific Coast Groundfish Fishery Management Plan; Amendment 29; 2021-22 Biennial Specifications and Management Measures; Correction

AGENCY: National Marine Fisheries Service (NMFS), National Oceanic and Atmospheric Administration (NOAA), Commerce.

ACTION: Final rule; correction.

SUMMARY: NMFS published a final rule on December 11, 2020 to establish the 2021-2022 harvest specifications and management measures for groundfish taken in the U.S. exclusive economic zone off the coasts of Washington, Oregon, and California. That final rule modified the boundaries of the commercial non-trawl rockfish conservation area (RCA) for limited entry fixed-gear and open-access vessels. In implementing these changes, NMFS incorrectly identified the seaward boundary of the commercial non-trawl RCA south of 34°27′ N lat. for limited entry fixed-gear vessels. This correction is necessary so that the implementing regulations are accurate and implement the action as intended by the Pacific Fishery Management Council (Council).

DATES: This correction is effective on January 1, 2021.

FOR FURTHER INFORMATION CONTACT: Karen Palmigiano at karen.palmigiano@noaa.gov or 206-526-4491.

SUPPLEMENTARY INFORMATION: NMFS published a final rule on December 11, 2020 (853 FR 79880) that established the 2021-2022 harvest specifications and management measures for groundfish taken in the U.S. exclusive economic zone off the coasts of Washington, Oregon, and California. That final rule is effective January 1, 2021.

The December 11, 2020 final rule defined the boundaries of the commercial non-trawl rockfish conservation area (RCA) south of 34°27′ north latitude (N lat.) for limited entry fixed-gear vessels as 100 fathoms (fm) to 125 fm. The same rule defined the boundaries of the commercial non-trawl RCA south 34°27′ N lat. for open-access vessels as 100 fm to 150 fm. The correct boundaries for the commercial non-trawl RCA south of south of 34°27′ N lat. for both limited entry fixed-gear and open-access vessels is 100 fm to 150 fm.

This correction is consistent with the Council recommendation for the 2021-2022 groundfish harvest specifications and is a minor correction to correctly implement the Council intent in their final action taken at the June 2020 Council meeting.

Correction

In FR. Doc. 2020-27142 at 85 FR 79880 in the issue of December 11, 2020, on page 79922, in amendatory instruction 16, Table 2 (South) to part 660, subpart E, is corrected to read as follows:

BILLING CODE 3510-22-P

Dated: December 28, 2020.
Christopher Wayne Oliver,
Assistant Administrator for Fisheries, National Marine Fisheries Service.

[FR Doc. 2020-28963 Filed 12-30-20; 8:45 am]

BILLING CODE 3510-22-C